DEPARTMENT OF HOMELAND SECURITY

Coast Guard

33 CFR Part 165

[Docket No. USCG-2022-0859]

Safety Zones; Fireworks Displays in the Fifth Coast Guard District

AGENCY: Coast Guard, Department of Homeland Security (DHS).

ACTION: Notification of enforcement of regulation.

SUMMARY: The Coast Guard will enforce the Delaware River, Philadelphia, PA; Safety Zone from 9:15 p.m. through 10 p.m. on November 12, 2022, to provide for the safety of life on navigable waterways during a barge-based fireworks display. Our regulation for marine events within the Fifth Coast Guard District identifies the regulated area for this event in Philadelphia, PA. During the enforcement period, the operator of any vessel in the regulated area must comply with directions from the Patrol Commander or any Official Patrol displaying a Coast Guard ensign.

DATES: The regulation 33 CFR 165.506 will be enforced for the location identified in entry 10 of table 1 to paragraph (h)(1) from 9:15 p.m. through 10 p.m. on November 12, 2022.

FOR FURTHER INFORMATION CONTACT: If you have questions about this notification of enforcement, you may call or email Petty Officer Dylan Caikowski, U.S. Coast Guard, Sector Delaware Bay, Waterways Management Division, telephone 215-271-4814, email SecDelBayWWM@uscg.mil.

SUPPLEMENTARY INFORMATION: The Coast Guard will enforce the safety zone in table 1 to paragraph (h)(1) to 33 CFR 165.506, entry No. 10 for a barge based fireworks display from 9:15 p.m. through 10 p.m. on November 12, 2022. This action is necessary to ensure safety of life on the navigable waters of the United States immediately prior to, during, and immediately after a fireworks display. Our regulation for safety zones of fireworks displays within the Fifth Coast Guard District, table 1 to paragraph (h)(1) to 33 CFR 165.506, entry 10 specifies the location of the regulated area as all waters of the Delaware River, adjacent to Penn's Landing, Philadelphia, PA, within a 500-yard radius of the fireworks barge position. The approximate position for the display is latitude 39°57′39″ N, longitude 075°07′45″ W. During the enforcement period, as reflected in § 165.506(d), vessels may not enter, remain in, or transit through the safety zone unless authorized by the Captain of the Port or designated Coast Guard patrol personnel on-scene.

In addition to this notification of enforcement in the Federal Register, the Coast Guard will provide notification of this enforcement period via broadcast notice to mariners.

Dated: October 26, 2022.
Jonathan D. Theel,
Captain, U.S. Coast Guard, Captain of the Port Delaware Bay.

[FR Doc. 2022-23719 Filed 11-1-22; 8:45 am]

BILLING CODE 9110-04-P